DEPARTMENT OF ENERGY

Federal Energy Regulatory Commission

Combined Notice of Filings #1

Take notice that the Commission received the following electric corporate filings:

Docket Numbers: EC25-87-000.

Applicants: Jicarilla Solar 1 LLC, Jicarilla Storage 1 LLC, Jicarilla Solar 2 LLC, Stonepeak Tulia Holdings LLC.

Description: Joint Application for Authorization Under Section 203 of the Federal Power Act of Jicarilla Solar 1 LLC, et al.

Filed Date: 5/14/25.

Accession Number: 20250514-5120.

Comment Date: 5 p.m. ET 6/4/25.

Take notice that the Commission received the following exempt wholesale generator filings:

Docket Numbers: EG25-324-000.

Applicants: Apple River Solar, LLC.

Description: Apple River Solar, LLC submits Notice of Self-Certification of Exempt Wholesale Generator Status.

Filed Date: 5/14/25.

Accession Number: 20250514-5073.

Comment Date: 5 p.m. ET 6/4/25.

Docket Numbers: EG25-325-000.

Applicants: Jackson County Solar, LLC.

Description: Jackson County Solar, LLC submits Notice of Self-Certification of Exempt Wholesale Generator Status.

Filed Date: 5/14/25.

Accession Number: 20250514-5074.

Comment Date: 5 p.m. ET 6/4/25.

Docket Numbers: EG25-326-000.

Applicants: Portage Solar, LLC.

Description: Portage Solar, LLC submits Notice of Self-Certification of Exempt Wholesale Generator Status.

Filed Date: 5/14/25.

Accession Number: 20250514-5077.

Comment Date: 5 p.m. ET 6/4/25.

Docket Numbers: EG25-327-000.

Applicants: Sycamore Creek Solar, LLC.

Description: Sycamore Creek Solar, LLC submits Notice of Self-Certification of Exempt Wholesale Generator Status.

Filed Date: 5/14/25.

Accession Number: 20250514-5079.

Comment Date: 5 p.m. ET 6/4/25.

Take notice that the Commission received the following Complaints and Compliance filings in EL Dockets:

Docket Numbers: EL25-82-000.

Applicants: Eolus Project Holdings LLC v. Pacific Gas & Electric Company and California Independent System Operator.

Description: Eolus Project Holdings LLC v. Pacific Gas & Electric Company and California Independent System Operator.

Filed Date: 5/14/25.

Accession Number: 20250514-5010.

Comment Date: 5 p.m. ET 6/3/25.

Take notice that the Commission received the following electric rate filings:

Docket Numbers: ER10-1633-003; ER10-1674-004; ER16-2186-001.

Applicants: Deseret Generation & Transmission Co-operative, Inc., Deseret Generation & Transmission Co-operative, Inc., Deseret Generation & Transmission Co-operative, Inc.

Description: Supplement to 06/30/2022, Triennial Market Power Analysis for Northwest Region of Deseret Generation & Transmission Co-operative, Inc.

Filed Date: 5/1/25.

Accession Number: 20250501-5419.

Comment Date: 5 p.m. ET 5/22/25.

Docket Numbers: ER19-69-001.

Applicants: Rockland Wind Farm LLC.

Description: Supplement to 08/15/2023, Rockland Wind Farm LLC tariff filing.

Filed Date: 5/12/25.

Accession Number: 20250512-5209.

Comment Date: 5 p.m .ET 6/2/25.

Docket Numbers: ER20-3034-001.

Applicants: Midcontinent Independent System Operator, Inc. GridLiance Heartland LLC.

Description: Compliance filing: GridLiance High Plains LLC submits tariff filing per 35: 2025-05-14_GridLiance Order 864 ADIT Additional Compliance to be effective 12/1/2020.

Filed Date: 5/14/25.

Accession Number: 20250514-5086.

Comment Date: 5 p.m. ET 6/4/25.

Docket Numbers: ER21-1225-006; ER22-867-003.

Applicants: Long Ridge Retail Electric Supplier LLC, Long Ridge Energy Generation LLC.

Description: Supplement to 07/31/2024, Notice of Change in Status of Long Ridge Energy Generation LLC, et al.

Filed Date: 5/6/25.

Accession Number: 20250506-5176.

Comment Date: 5 p.m. ET 5/27/25.

Docket Numbers: ER25-848-003.

Applicants: Merced BESS, LLC.

Description: Tariff Amendment: Merced BESS LLC MBR Tariff to be effective 1/10/2025.

Filed Date: 5/13/25.

Accession Number: 20250513-5158.

Comment Date: 5 p.m. ET 6/3/25.

Docket Numbers: ER25-1705-001.

Applicants: PJM Interconnection, L.L.C..

Description: Tariff Amendment: Amendment to Original GIA SA No. 7590; Project Identifier No. AF2-205 to be effective 2/17/2025.

Filed Date: 5/14/25.

Accession Number: 20250514-5138.

Comment Date: 5 p.m. ET 6/4/25.

Docket Numbers: ER25-2023-001.

Applicants: ISO New England Inc., Eversource Energy Service Company (as agent), New England Power Pool Participants Committee.

Description: Tariff Amendment: ISO New England Inc. submits tariff filing per 35.17(b): ISO-NE; Amendment to Correct Ministerial Error to be effective 6/22/2025.

Filed Date: 5/9/25.

Accession Number: 20250509-5172.

Comment Date: 5 p.m. ET 5/30/25.

Docket Numbers: ER25-2211-000.

Applicants: American Beech Solar LLC.

Description: Initial Rate Filing: Market-Based Rate Application to be effective 7/13/2025.

Filed Date: 5/13/25.

Accession Number: 20250513-5162.

Comment Date: 5 p.m. ET 6/3/25.

Docket Numbers: ER25-2212-000.

Applicants: Prairie Solar 1, LLC.

Description: Initial Rate Filing: Market-Based Rate Application to be effective 7/13/2025.

Filed Date: 5/13/25.

Accession Number: 20250513-5163.

Comment Date: 5 p.m. ET 6/3/25.

Docket Numbers: ER25-2213-000.

Applicants: Keystone Appalachian Transmission Company.

Description: § 205(d) Rate Filing: KATCo submits one Amended Interconnection Agreement, SA No. 6650 to be effective 7/14/2025.

Filed Date: 5/14/25.

Accession Number: 20250514-5008.

Comment Date: 5 p.m. ET 6/4/25.

Docket Numbers: ER25-2214-000.

Applicants: American Transmission Systems, Incorporated.

Description: § 205(d) Rate Filing: ATSI submits Revised Interconnection Agreement (IA) SA No. 3994 to be effective 7/14/2025.

Filed Date: 5/14/25.

Accession Number: 20250514-5009.

Comment Date: 5 p.m. ET 6/4/25.

Docket Numbers: ER25-2215-000.

Applicants: PJM Interconnection, L.L.C.

Description: Tariff Amendment: Notice of Cancellation of WMPA, Service Agreement No. 6387; Queue No. AG1-291 to be effective 7/14/2025.

Filed Date: 5/14/25.

Accession Number: 20250514-5032.

Comment Date: 5 p.m. ET 6/4/25.

Docket Numbers: ER25-2216-000.

Applicants: Boralex Energy Trading and Marketing Inc.

Description: § 205(d) Rate Filing: Petition for Blanket MBR Authorization—Boralex Energy Trading & Marketing Inc to be effective 7/15/2025.

Filed Date: 5/14/25.

Accession Number: 20250514-5072.

Comment Date: 5 p.m. ET 6/4/25.

Docket Numbers: ER25-2217-000.

Applicants: Tri-State Generation and Transmission Association, Inc.

Description: § 205(d) Rate Filing: Initial Filing of Rate Schedule FERC No. 406 to be effective 7/14/2025.

Filed Date: 5/14/25.

Accession Number: 20250514-5106.

Comment Date: 5 p.m. ET 6/4/25.

Docket Numbers: ER25-2218-000.

Applicants: Coldwater River Solar, LLC.

Description: Initial Rate Filing: Application for Market Based Rate to be effective 7/1/2025.

Filed Date: 5/14/25.

Accession Number: 20250514-5107.

Comment Date: 5 p.m. ET 6/4/25.

Docket Numbers: ER25-2219-000.

Applicants: Consolidated Edison Company of New York, Inc., New York Independent System Operator, Inc.

Description: § 205(d) Rate Filing: New York Independent System Operator, Inc. submits tariff filing per 35.13(a)(2)(iii: Con Edison 205: FRT revisions re Rainey Breakers Abandonment & CWIP Incntvs Rqst to be effective 7/14/2025.

Filed Date: 5/14/25.

Accession Number: 20250514-5113.

Comment Date: 5 p.m. ET 6/4/25.

Docket Numbers: ER25-2220-000.

Applicants: VIOTAS Texas LLC.

Description: Compliance filing: Baseline Refile to be effective 4/10/2025.

Filed Date: 5/14/25.

Accession Number: 20250514-5140.

Comment Date: 5 p.m. ET 6/4/25.

Take notice that the Commission received the following electric securities filings:

Docket Numbers: ES25-38-000.

Applicants: ALLETE, Inc.

Description: Supplement to 03/31/2025, Application Under Section 204 of the Federal Power Act for Authorization to Issue Securities of ALLETE, Inc.

Filed Date: 5/2/25.

Accession Number: 20250502-5245.

Comment Date: 5 p.m. ET 5/23/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: May 14, 2025.
Carlos D. Clay,
Deputy Secretary

[FR Doc. 2025-08950 Filed 5-19-25; 8:45 am]

BILLING CODE 6717-01-P